ENVIRONMENTAL PROTECTION AGENCY

[FRL-6715-8]

Massachusetts Marine Sanitation Device Standard; Receipt of Petition; Buzzards Bay

Notice is hereby given that a petition has been received from the State of Massachusetts requesting a determination from the Regional Administrator, U.S. Environmental Protection Agency, pursuant to Section 312(f)(3) of Public Law 92-500 as amended by Public Law 95-217 and Public Law 100-4, that adequate facilities for the safe and sanitary removal and treatment of sewage from all vessels are reasonably available for Buzzards Bay, surrounded by the towns Acushnet, Bourne, Dartmouth, Fairhaven, Falmouth, Gosnold, Marion, Mattapoisett, New Bedford, Rochester, and Wareham, in the State of Massachusetts, to qualify as a “No Discharge Area” (NDA). The proposed area encompasses approximately 210 square miles. The areas covered under this petition include:

Longitude | Latitude
71°07′12.80″ | 41°29′48.48″
71°05′45.60″ | 41°25′05.52″
71°03′32.04″ | 41°25′24.96″
71°59′51.72″ | 41°22′30.00″
70°56′57.12″ | 41°24′33.12″
70°54′29.88″ | 41°25′17.04″
70°54′11.52″ | 41°25′17.04
70°51′19.80″ | 41°26′24.00″
70°50′22.92″ | 41°26′44.88″
70°48′28.80″ | 41°26′56.76″
70°48′18.00″ | 41°26′59.28″
70°42′06.12″ | 41°30′34.92″
10°41′58.20″ | 41°30′37.80″
10°40′51.60″ | 41°30′55.44″
70°40′58.44″ | 41°31′14.16″

70°37′27.48″ 41°44′14.64″—Canal Entrance West

70°37′21.36″ 41°44′10.68″—Canal Entrance East

The State of Massachusetts has certified that there are thirty disposal facilities available to service vessels operating in the waters of Buzzards Bay. A list of the facilities, phone numbers, locations, and hours of operation is appended at the end of this petition. An additional seven facilities are pending or under construction. Of the thirty current facilities, sixteen are fixed shore based facilities, one is a mobile cart, and thirteen are pumpout boats. Eight of the sixteen fixed, shore based facilities discharge to holding tanks which have capacities ranging from 110 to 1000 gallons. The other twenty-two facilities discharge directly to municipal sewage systems. In addition, there are shoreside restrooms located at the majority of marinas.

The estimated number of boats registered to residents in Buzzards Bay is 13,163 according to Registry of Motor Vehicle data. The State of Massachusetts estimates there are 2000 registered vessels in Buzzards Bay that may have Marine Sanitation Devices. In addition to the vessels that reside in Buzzards Bay, there is an estimated transient population of 700 vessels which may have marine sanitation devices.

In 1987 Buzzards Bay was designated as a National Estuary Program. In 1991 the Comprehensive Conservation and Management Plan was approved for the Bay and it's watersheds. The Comprehensive Conservation and Management Plan recommends that the Bay become a No Discharge Area to achieve greater water quality protection. The eleven municipalities surrounding Buzzards Bay express support for the Bay wide No Discharge Designation.

Comments and reviews regarding this request, to designate approximately 210 square miles in Buzzards Bay becoming as a No Discharge Area, for the boating population, may be filed on or before July 17, 2000. Such communications, or requests for information should be addressed to: Ann Rodney, U.S. EPA New England Region, 1 Congress Street, Suite 1100, CWQ, Boston, MA 02114-2023, (617) 918-1538, (617) 918-1505 (fax), rodney.ann@epa.gov

Dated: June 7, 2000.
Mindy S. Lubber,
Regional Administrator, EPA, New England Region.

City/town | Location | VHF Chan. | Telephone | Hours
Falmouth | Woods Hole Marine, pumpout boat | 9 | 508-540-2402 |
Falmouth | Quisset Harbor boatyard, pumpout boat | 9 | 508-548-0506 | 8-6/7
Falmouth | Brewer's Fiddler Cove, dockside facility | 9 | 508-564-6327 | 9-5/7
Falmouth | Brewer's Fiddler Cove, pump-out cart | 9 | 508-564-6327 | 9-5/7
Falmouth | Town owned boat: W. Falmouth/Waquoit Bay
Bourne | Parker's boat Yard, dockside facility | 68 | 508-563-9366 | 8-8/7
Bourne | Kingman Marine, dockside facility | 9 | 508-563-7136 | 8-8/7
Bourne | Dockside Facility, Pocasset River, town operated
Bourne | Monument Beach Marina, dockside facility, town owned
Bourne | Bourne Marina, dock-side facility | 9 | 508-759-0623 | 8-5/7
Bourne | Bourne Marina, pumpout boat #1, serving northside | 9 | 508-759-0623 | 8-5/7
Bourne | Bourne Marina, pumpout boat #2, serving southside | 9 | 508-759-0623 | 8-5/7
Wareham | Bevans/Continental Marina, dockside facility | 9 | 508-759-5451 | Call
Wareham | Onset Bay Marina, dockside facility | 9 | 508-295-0338 | Call
Wareham | Onset Bay Marina, pumpout boat | 9 | 508-295-0338 | Call
Wareham | Pt. Independence YC, dockside facility | 9 | 508-295-3972 | Call
Wareham | Stonebridge Marina, dockside facility | 9 | 508-295-8003 | Call
Wareham | Onset Town Pier, dockside facility | 9 | 508-295-8160 | Call
Wareham | Warr's Marine, dockside facility | 9 | 508-295-0022 | Call
Wareham | Warr's Marine (Town oper.) pumpout boat #1 | 9 | 508-291-3100 | Call
Marion | Island Wharf, dockside facility | 9 | 508-748-3535 | 8-5/7
Marion | Island Wharf, Pumpout boat | 9 | 508-748-3535 | 8-5/7
Mattapoisett | Mattapoisett boat Yard, pumpout boat | 68 | 508-758-3812 | 8-4/5
Mattapoisett | Mattapoisett Town Dock, pumpout boat
Mattapoisett | Mattapoisett Town Dock, dockside facility | 68 | 508-758-4191 | 8-5/5
Fairhaven | Earl's Marina, dockside facility | 18 | 508-993-8600 | 7-6/7
Fairhaven | Shipyard Marine, pumpout boat does entire town | 9 | 508-979-4023 | On Call
Fairhaven | Shipyard Marine, pumpout boat
New Bedford | Pope's Island Marina, dockside facility | 9, 74 | 508-979-1456 | 7-8/7
New Bedford | State Pier facility, dockside facility, large vessels |  |  |
New Bedford | Proposed Boat
Dartmouth | No. Side Bridge, Town Dock, pumpout boat | 9 | 508-999-0759 | 8-8/7
Dartmouth | Davis & Tripp's Marina, pumpout boat | 9 | 508-999-0759 | 8-8/7
Westport | Tripp's Marina | 9 | 508-636-4058 | Call
Westport | Westport Point-Town Dock, boat #1 | 9 | 508-636-1105 | Call
Westport | Westport Point-Town Dock, boat #2 | 9 | 508-636-1105 | Call
Baywide | CBB Bay Keeper, Gosnold and Bay-wide | TBA | 508-999-6363 | TBA

[FR Doc. 00-15026 Filed 6-15-00; 8:45 am]

BILLING CODE 6560-50-P